DEPARTMENT OF AGRICULTURE

Farm Service Agency

Information Collection Request; Servicing Minor Program Loans

AGENCY: Farm Service Agency, USDA.

ACTION: Notice and request for comments.

SUMMARY: In accordance with the Paperwork Reduction Act of 1995, the Farm Service Agency (FSA) is requesting comments from all interested individuals and organizations on an extension of a currently approved information collection to support the Servicing Minor Program Loans.

DATES: We will consider comments that we receive by November 17, 2015.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Cindy Van Nostrand, Loan Servicing and Properties Management Division, USDA, FSA, Farm Loan Programs, 1400 Independence Ave. SW., Mail Stop 0523, Washington, DC 20250-00523.

You may also send comments to the Desk Officer for Agriculture, Office of Information and Regulatory Affairs, Office of Management and Budget, Washington, DC 20503.

FOR FURTHER INFORMATION CONTACT: Cindy Van Nostrand, (202) 720-0900.

SUPPLEMENTARY INFORMATION: Title: Servicing Minor Program Loans.

OMB Control Number: 0560-0230.

Expiration Date: March 31, 2016.

Type of Request: Extension.

Abstract: Section 331(b) of the Consolidated Farm and Rural Development Act (CONTACT, 7 U.S.C. 1981(b)), in part, authorizes the Secretary of Agriculture to modify, subordinate and release terms of security instruments, leases, contracts, and agreements entered into by FSA. That section also authorizes transfers of security property, as the Secretary deems necessary, to carry out the purpose of the loan or protect the Government's financial interest. Section 335 of the CONACT (7 U.S.C. 1985) provides servicing authority for real estate security; operation or lease of realty; disposition of property; conveyance of real property interest of the United States; easements; and condemnations.

The information collection relates to a program benefit recipient or loan borrower requesting action on security they own, which was purchased with FSA loan funds, improved with FSA loan funds or has otherwise been mortgaged to FSA to secure a Government loan. The information collected is primarily financial data not already on file, such as borrower asset values, current financial information and public use and employment data.

The formulas used to calculate the total burden hours is “the estimated average time per respondents” times “the total estimated annual response.”

Estimate of Annual Burden: Public reporting burden for this collection of information is estimated to average .64 hours per response.

Respondents: Individuals, associations, partnerships, or corporations.

Estimated Number of Respondents: 58.

Estimated Number of Responses per Respondent: 1.

Estimated Total Annual of Responses: 58.

Estimated Average Time per Response: 0.64 hours.

Estimated Total Annual Burden on Respondents: 37 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Val Dolcini,
Administrator, Farm Service Agency.

[FR Doc. 2015-23430 Filed 9-17-15; 8:45 am]

BILLING CODE 3410-05-P